DEPARTMENT OF COMMERCE

National Oceanic and Atmospheric Administration

[RTID 0648-XB604]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one and half-day in-person and virtual meeting (hybrid) of its Ecosystem Technical Committee (ETC).

DATES: The meeting will take place Tuesday, December 14, 2021, 8:30 a.m.-5 p.m. and Wednesday, December 15, 2021, 8:30 a.m.-12 p.m., EST.

ADDRESSES: Those who prefer to attend the meeting in-person may do so at the Gulf Council office. If you are unable or do not wish to travel, you may participate in the meeting via webinar. Registration information will be available on the Council's website by visiting www.gulfcouncil.org and clicking on the ETC meeting on the calendar.

Council address: Gulf of Mexico Fishery Management Council, 4701 W Spruce Street, Suite 200, Tampa, FL 33607; telephone: (813) 348-1630.

FOR FURTHER INFORMATION CONTACT: Dr. John Froeschke, Deputy Director, Gulf of Mexico Fishery Management Council; john.froeschke@gulfcouncil.org, telephone: (813) 348-1630.

SUPPLEMENTARY INFORMATION:

Tuesday, December 14, 2021; 8:30 a.m. Until 5 p.m.; EST

The meeting will begin with Introductions and Adoption of Agenda, Approval of Minutes from the September 10, 2021 meeting and review of Scope of Work with its members.

The committee will review and discuss the LGL Contract Details; ETC's Roles and Responsibilities; Case Studies and Lessons Learned from Fishery Ecosystem Planning (FEP) including presentation, document, committee discussion and recommendations. They will receive a presentation and review a document on Stakeholder Assessment and Concept Mapping; and, hold a committee discussion and recommendations.

Wednesday, December 15, 2021; 8:30 a.m. Until 12 p.m.; EST

The ETC will review and discuss Indicator Development for Fishery Ecosystem Planning (FEP); receive a presentation for White Paper and Key Recommendations, review of document and Draft Indicator Dashboard, and hold committee discussion and recommendations.

The committee will receive a presentation for the Proposed FEP Structure; receive public comment and, discuss any Other Business items.

—Meeting Adjourns

The meeting will be held in-person and via webinar (hybrid). You may register for the webinar by visiting www.gulfcouncil.org and clicking on the Ecosystem Technical Committee meeting on the calendar.

The Agenda is subject to change, and the latest version along with other meeting materials will be posted on www.gulfcouncil.org as they become available.

Although other non-emergency issues not on the agenda may come before the Technical Committee for discussion, in accordance with the Magnuson-Stevens Fishery Conservation and Management Act, those issues may not be the subject of formal action during this meeting. Actions of the Technical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: November 17, 2021.
Tracey L. Thompson,
Acting Deputy Director, Office of Sustainable Fisheries, National Marine Fisheries Service.

[FR Doc. 2021-25421 Filed 11-19-21; 8:45 am]

BILLING CODE 3510-22-P